DEPARTMENT OF THE INTERIOR

Fish and Wildlife Service

[FWS-R6-NWRS-2019-N167; FF06R0OP00-FXRS12610600000-201]

National Bison Range, MT; Availability of the Final Record of Decision for the Final Comprehensive Conservation Plan and Final Environmental Impact Statement

AGENCY: Fish and Wildlife Service, Interior.

ACTION: Notice of availability.

SUMMARY: We, the U.S. Fish and Wildlife Service, announce the availability of the final record of decision for the final comprehensive conservation plan and final environmental impact statement for the National Bison Range in Montana.

ADDRESSES: You may view or obtain copies of the final ROD, the final CCP, final EIS, or other project information by any of the following methods:

• Agency Website: https://www.fws.gov/mountain-prairie/refuges/nbrc.php.

• Email: scoping_nbr@fws.gov. Include “Request National Bison Range final ROD” in the subject line of your email message.

• U.S. Mail: National Bison Range, 58355 Bison Range Road, Moiese, MT 59824.

• Local Libraries: The documents are available at the libraries listed under SUPPLEMENTARY INFORMATION.

FOR FURTHER INFORMATION CONTACT: Amy Coffman, Refuge Manager, at 406-644-2211, x204 (phone), or amy_coffman@fws.gov (email), or Vanessa Fields, Planning Team Leader, at 406-727-7400, x219 (phone), or vanessa_fields@fws.gov (email).

SUPPLEMENTARY INFORMATION:

Introduction

With this notice, we finalize the comprehensive conservation plan (CCP) and final environmental impact statement (EIS) process for the National Bison Range in Montana (refuge, NBR). We published a notice of intent (NOI) to develop a CCP and EIS, and a request for comments, in the Federal Register on May 18, 2017 (82 FR 22843), which opened a comment period until June 19, 2017. That NOI was a revision to an earlier NOI we published on January 18, 2017 (82 FR 5597), which opened a comment period that ended on February 17, 2017. After the scoping period and the development of alternatives, a draft CCP and draft EIS were made available for a 45-day public review and comment period, which closed on May 20, 2019 (April 5, 2019, 84 FR 13662). A second NOA was published in the Federal Register on September 6, 2019 (84 FR 46950), announcing publication of the final CCP and final EIS. The review period ended October 7, 2019. For general background on the CCP process and the NBR, please see the May 18, 2017, notice (82 FR 22844).

The primary planning area for this decision is the congressionally designated boundary of the refuge, located in Sanders and Lake Counties, Montana. The 18,800-acre NBR is located where three major geographic features merge, Mission Valley, Mission Mountain Range, and Jocko River Valley. The glacial history of the region has had a pronounced influence on the soils and landforms. Grasslands dominate the landscape at lower elevations, dotted with wetland and riparian vegetation along seasonal drainages and around seeps and springs. Mixed-conifer forest occurs at the upper elevations. The Jocko River and Mission Creek form riparian and wetland corridors along the north and south boundaries of the refuge. Invasive plant species are recognized as an important factor affecting ecosystem function and health on the refuge.

The NBR provides cover, food, water, and sufficient space for numerous native wildlife species. The NBR supports a healthy population of plains bison as well as populations of other native ungulates and a variety of predators. The refuge also supports over 200 native bird species. In addition to the federally threatened grizzly bear and bull trout, there are 43 Montana species of concern that occur on the refuge.

Although people have lived in the region for thousands of years, relatively few cultural resource sites have been formally recorded on the refuge. It is anticipated that a wide range of undocumented cultural resource types are located on the NBR. These could include, but would not be limited to, pre-contact and/or protohistoric open camps, stone circles and alignments, cairns, lithic scatters, rock shelters, trails and roads, drive-lines, kill (i.e., jump or pound) sites, hunting blinds, eagle traps, fasting beds, and rock imagery, as well as historic buildings and structures associated with the mission and operation of the NBR.

Visitors come from all over the country and other parts of the world to learn about NBR and enjoy a variety of wildlife-dependent recreational activities. In 2017, NBR welcomed approximately 180,000 visitors. Annual visitation to the NBR is concentrated during spring through fall, when the full length of the Red Sleep Mountain Drive is open. Wildlife observation, photography, and hiking account for an estimated 94 percent of visits to the NBR. NBR affects the economy through the resident and nonresident visitor spending it generates, the employment it supports, and the value it adds to the surrounding area.

National Environmental Policy Act

In accordance with the National Environmental Policy Act (NEPA; 40 CFR 1506.6(b)) requirements, this notice announces the availability of the final ROD for the final CCP and final EIS for the National Bison Range. We completed a thorough analysis of the environmental, social, and economic considerations associated with our actions. The final ROD documents our selection of Alternative C, the preferred alternative.

The CCP will guide us in managing and administering the National Bison Range for the next 15 years. Alternative C, as we described in the final EIS/ROD, is the foundation for the CCP.

CCP Alternatives and Selected Alternative

Our final CCP and final EIS (84 FR 46950, September 6, 2019) addressed several issues. To address these, we developed and evaluated the following alternatives:

• Alternative A—No Action, which would continue all the current management activities and maintain funding, infrastructure, all current programs, and staffing at existing levels;

• Alternative B, which emphasizes managing habitat and wildlife populations, as well as NBR infrastructure and operations, to provide quality wildlife-dependent opportunities for the public; and

• Alternative C, which emphasizes maintaining and, where feasible, enhancing ecological communities while recognizing ever-changing environmental conditions.

After consideration of the more than 300 comments that we received on the draft CCP and draft EIS, we selected Alternative C. It is the alternative that best meets the purposes of the refuge, the mission of the National Wildlife Refuge System, and the vision and management goals set for the National Bison Range; and it adheres to Service policies and guidelines. It considers the interests and perspectives of many agencies, organizations, Tribes, and the public. Additionally, it is the environmentally preferred alternative.

Alternative C emphasizes maintaining and, where feasible, enhancing ecological communities while recognizing ever-changing environmental conditions. In cooperation with our partners, the Service will develop and utilize a prioritization framework to identify and define future conditions that will drive management actions to build ecological community resiliency, promote species and genetic diversity, and build sustainability in management capacity and operations.

Under this alternative, the Service will seek to facilitate collaborative, cooperative, and coordinated management of NBR with our Federal, Tribal, State, local, public, and private partners. Where possible, the refuge will participate in landscape-level management of wildlife species, evaluate cross-boundary movements, and create corridors conducive to wildlife migration and movement. The Service will also seek ways to incorporate the expertise, resources, and efforts of our partners to help facilitate the benefits of a broader functioning landscape.

Public Availability of Documents

In addition to the methods in ADDRESSES, you can view or obtain the final ROD, the final CCP, and final EIS at the following public libraries:

Library | Address | Phone No.
Flathead County Library | 247 First Avenue East, Kalispell, Montana 59901 | 406-758-5820
Missoula Public Library | 301 Main Street, Missoula, Montana 59802 | 406-721-2665
Plains Public Library | P.O. Box 399, Plains, Montana 59859 | 406-826-3101
Ronan City Library | 203 Main Street SW, Ronan, Montana 59864 | 406-676-3682
North Lake County Public Library | 2 First Avenue East, Polson, Montana 59860 | 406-883-8225
St. Ignatius School—Community Library | 76 Third Avenue, Saint Ignatius, Montana 59865 | 406-745-3811
Bigfork Library | 525 Electric Avenue, Bigfork, Montana 59911 | 406-837-6976

Noreen Walsh,
Regional Director, U.S. Fish and Wildlife Service.

[FR Doc. 2019-27267 Filed 12-17-19; 8:45 am]

BILLING CODE 4333-15-P